DEPARTMENT OF HOMELAND SECURITY

[DHS Docket No. ICEB-2015-0003]

RIN 1653-ZA14

Extension of Employment Authorization for Nepali F-1 Nonimmigrant Students Experiencing Severe Economic Hardship Relating to the April 25, 2015 Earthquake in the Federal Democratic Republic of Nepal

AGENCY: U.S. Immigration and Customs Enforcement (ICE), DHS.

ACTION: Notice.

SUMMARY: This notice informs the public of the extension of suspension of certain regulatory requirements for F-1 nonimmigrant students whose country of citizenship is the Federal Democratic Republic of Nepal (Nepal) in order to avoid severe economic hardship that otherwise would result from the immediate, abrupt cessation of the temporarily suspended regulatory requirements governing on-campus and off-campus employment previously afforded due to the damage caused by the earthquake in Nepal on April 25, 2015. An earlier notice suspended these requirements for eligible Nepali F-1 nonimmigrant students. This notice extends eligibility for relief afforded under that earlier notice. Qualified students will continue to be allowed to apply for employment authorization and work an increased number of hours while school is in session provided that they satisfy the minimum course load requirement, while continuing to maintain their F-1 student status until June 24, 2019.

DATES: This F-1 notice is effective June 28, 2018 and will remain in effect through June 24, 2019.

FOR FURTHER INFORMATION CONTACT: Sharon Snyder, Unit Chief, Student and Exchange Visitor Program, MS 5600, U.S. Immigration and Customs Enforcement, 500 12th Street SW, Washington, DC 20536-5600; (703) 603-3400. This is not a toll-free number. Program information can be found at http://www.ice.gov/sevis/.

SUPPLEMENTARY INFORMATION:

What action is DHS taking under this notice?

The Secretary of Homeland Security is exercising her authority under 8 CFR 214.2(f)(9) to extend the temporary suspension of certain requirements governing on-campus and off-campus employment for F-1 nonimmigrant students whose country of citizenship is Nepal in order to avoid severe economic hardship that otherwise would result from the immediate, abrupt cessation of the temporarily suspended regulatory requirements governing on-campus and off-campus employment previously afforded due to the damage caused by the earthquake in Nepal on April 25, 2015. See 80 FR 69237 (Nov. 9, 2015). The original notice was effective from November 9, 2015 until December 24, 2016. A subsequent notice provided for an 18-month extension from December 27, 2016 through June 24, 2018. See 81 FR 95161 (Dec. 27, 2016). Effective with this publication, suspension of the requirements for qualifying students is extended from June 28, 2018 through June 24, 2019, after which the extension expires.

The Secretary's decision to temporarily extend the suspension of certain requirements takes into account the factors that led to her decision to terminate Temporary Protected Status (TPS), as detailed below. The Secretary has determined that conditions in Nepal no longer support TPS designation. To provide for an orderly transition regarding TPS, the Secretary is terminating that designation effective at 11:59 p.m., local time, on June 24, 2019. See 83 FR 23705 (May 22, 2018).

For reasons that are similar to those leading to the decision to terminate Nepal's TPS designation, the Secretary is unlikely to further extend the suspension of the requirements governing on-campus and off-campus employment for F-1 nonimmigrant students who are experiencing severe economic hardship (8 CFR 214.2(f)(9)) after June 24, 2019. DHS strongly advises individuals who would be impacted by such decision to take steps to prepare themselves for that eventuality, including by establishing alternative means of financial support.

During the time period that this notice is effective, F-1 nonimmigrant students granted employment authorization through the notice will continue to be deemed to be engaged in a “full course of study” for the duration of their employment authorization provided they satisfy the minimum course load requirement described in 80 FR 69237. See 8 CFR 214.2(f)(6)(i)(F).

Who is covered under this action?

This notice applies exclusively to F-1 nonimmigrant students who meet all of the following conditions: (1) Are citizens of Nepal; (2) were lawfully present in the United States in F-1 nonimmigrant status on April 25, 2015, under section 101(a)(15)(F)(i) of the Immigration and Nationality Act (INA), 8 U.S.C. 1101(a)(15)(F)(i); (3) are enrolled in a school that is Student and Exchange Visitor Program (SEVP)-certified for enrollment of F-1 students; (4) are currently maintaining F-1 status; (5) require employment pursuant to this notice to avoid severe economic hardship that otherwise would result from the immediate, abrupt cessation of the temporarily suspended regulatory requirements governing on-campus and off-campus employment previously afforded due to the damage caused by the earthquake in Nepal of April 25, 2015; and (6) were issued employment authorization or obtained other student relief (i.e., were permitted to work an increased number of hours while school was in session and/or reduce their course load while continuing to maintain F-1 student status) by June 24, 2018, on account of experiencing severe economic hardship as a direct result of the earthquake in Nepal on April 25, 2015.

As of April 26, 2018, DHS estimates that there are approximately 15,388 Nepali F-1 nonimmigrant students enrolled in schools in the United States. This notice applies to both undergraduate and graduate students, as well as elementary school, middle school, and high school students. The notice, however, applies differently to elementary school, middle school, and high school students (see the discussion published at 80 FR 69239 in the question, “Does this notice apply to elementary school, middle school, and high school students in F-1 status?”).

F-1 students covered by this notice who transfer to other academic institutions that are SEVP-certified for enrollment of F-1 students remain eligible for the relief provided by means of this notice during the time period that this notice is effective.

Why is DHS taking this action?

The Department of Homeland Security (DHS) took action to provide temporary relief to F-1 nonimmigrant students whose country of citizenship is Nepal and who experienced severe economic hardship as a direct result of the earthquake in Nepal in April 2015. See 80 FR 69237. It enabled these F-1 students to obtain employment authorization, work an increased number of hours while school was in session, and reduce their course load while continuing to maintain their F-1 student status.

DHS has reviewed conditions in Nepal. Based on the review, the Secretary has determined that the circumstances supporting Nepal's 2015 relief for emergent circumstances directly resulting from the magnitude 7.8 earthquake that occurred on April 25, 2015 no longer exist as of the date of this notice. DHS has determined, however, that emergent circumstances justify extending until June 24, 2019, the effective date of the suspension of the requirements for the F-1 students who meet the aforementioned criteria because an immediate, abrupt cessation of the temporarily suspended regulatory requirements governing on-campus and off-campus employment could precipitate severe hardship for these students.

Nepal has made considerable progress in post-earthquake recovery and reconstruction, and conditions in Nepal have significantly improved since the country's last F-1 student temporary relief extension in 2016. The substantial disruption to living conditions has subsided for many of the Nepalese impacted by the earthquake. The number of citizens with access to clean water and sanitation has significantly increased, and reconstruction of thousands of homes has been completed or is underway. Schools and hospitals are functioning, and roads are being rebuilt. Additionally, government ministries and agencies are functioning at pre-earthquake levels, and the Government of Nepal is no longer temporarily unable to handle adequately the return of its nationals. See Termination of the Designation of Nepal for Temporary Protected Status, 83 FR 23705 (May 22, 2018).

Nepal has received a significant amount of international aid to assist in earthquake recovery efforts, which enabled the completion of many reconstruction projects and will support ongoing reconstruction for years to come. Nepal has made good progress in housing reconstruction, with slightly more than one in seven homes destroyed having been rebuilt, and more than half of homes under construction. For the most part, schools and health facilities have resumed operating at pre-earthquake levels. Nationwide, only 11 percent of schools and less than 9 percent of health facilities remain impacted by earthquake damage. Access to clean water has returned to pre-earthquake levels, and there has been a gradual improvement in food security in areas most affected by the earthquake. In areas still waiting for community water systems to be rebuilt, communities have access to clean water from other sources. All national- and most subnational-level infrastructure damaged by the earthquake has been retrofitted or rebuilt.

Thousands of Nepalese return annually to Nepal after working abroad, and the government has been able to accommodate the return of these citizens. In addition to receiving its returning nationals, Nepal is welcoming tourists, who are visiting Nepal at higher rates than before the earthquake.

Given these developments, DHS finds that the previously existing need for eligible Nepali F-1 students to work an increased number of hours beyond those generally allowed under regulatory requirements to meet their basic living requirements no longer exists as a direct consequence of the earthquake. However, the Secretary recognizes that an immediate, abrupt cessation to the suspension of regulatory requirements may precipitate significant economic harm for students from Nepal who currently rely on the employment authorization issued or other student relief obtained pursuant to the temporarily suspended regulatory requirements. The Secretary has determined that these separate emergent circumstances justify a further extension of the suspension, and anticipates that an extension for an additional year will provide sufficient time to mitigate these reliance interests. Extending the suspension of regulatory requirements for the temporary period noted above will provide students with employment authorization for a limited period if they can establish significant economic hardship resulting from the emergent circumstances, and will allow them time to establish alternative means of financial support after the suspended requirements expire.

How do I apply for employment authorization under the circumstances of this notice?

F-1 nonimmigrant students whose country of citizenship is Nepal who were lawfully present in the United States on April 25, 2015, meet the eligibility requirements above, and would experience severe economic hardship for reasons described above may apply for employment authorization under the otherwise applicable guidelines described in 80 FR 69237. However, an F-1 student seeking employment authorization due to severe economic hardship, in applying for such authorization based upon the separate emergent circumstances as determined by the Secretary as described above in this notice, must demonstrate to the Designated School Official (DSO) that the hardship would be precipitated by a cessation of previously authorized employment. For an F-1 student seeking off-campus employment authorization, in making the recommendation that the student be approved for such employment, the DSO, in addition to certifying the otherwise applicable information, will certify the student is a citizen of Nepal and requires employment pursuant to this notice to avoid severe economic hardship that otherwise would result from the immediate, abrupt cessation of the temporarily suspended regulatory requirements governing the employment that the student was previously afforded due to the damage caused by the earthquake in Nepal of April 25, 2015.

This notice extends the time period during which such F-1 students may seek employment authorization. All interested F-1 students should follow the otherwise applicable instructions listed in the original notice.

Kirstjen M. Nielsen,
Secretary.

[FR Doc. 2018-13964 Filed 6-27-18; 8:45 am]

BILLING CODE 9111-28-P